DEPARTMENT OF ENERGY

Federal Energy Regulatory Commission

[Project No. 77-314]

Pacific Gas and Electric Company; Notice of Proceeding To Consider Reopening License and Soliciting Comments, Motions To Intervene, and Protests

Take notice that the following hydroelectric proceeding has been initiated by the Commission:

a. Proceeding Type: Proceeding to Consider Reopening License to Incorporate National Marine Fisheries Service's Proposed Interim Measures.

b. Project No: P-77-314.

c. Date Initiated: November 16, 2022.

d. Licensee: Pacific Gas and Electric Company.

e. Name of Project: Potter Valley Hydroelectric Project No. 77.

f. Location: The Potter Valley Project is located on the Eel River and the East Branch Russian River in Mendocino and Lake Counties, California.

g. Filed Pursuant to: Standard Article 15.

h. Applicant Contact: Kimberly Ognisty, PG&E, Mail Code N11D, P.O. Box 770000, San Francisco, CA 94177, kimberly.ognisty@pge.com (510) 227-7060; or Jan Nimick, (415) 973-0629, Jan.Nimick@pge.com.

i. FERC Contact: Diana Shannon, (202) 502-6136, diana.shannon@ferc.gov.

j. Deadline for filing comments, motions to intervene and protests: December 16, 2022.

The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket numbers P-77-314. Comments emailed to Commission staff are not considered part of the Commission record.

k. Description of Project: Project's features include Lake Pillsbury, a 2,300-acre storage reservoir impounded by Scott Dam; Van Arsdale Reservoir, a 106-acre reservoir impounded by the Cape Horn Diversion Dam; and a tunnel and penstock across a natural watershed divide from the project's powerhouse located in the headwaters of the Eel River Basin to the Russian River Basin. Pacific Gas and Electric (PG&E) has operated the Potter Valley Project for approximately 120 years.¹ On October 4, 1983, the Commission issued a new license for its continued operation and maintenance,² with a license term expiring on April 14, 2022.³ On January 25, 2019, PG&E notified the Commission that it did not intend to relicense the project. Section 15(a)(1) of the Federal Power Act requires the Commission, at the expiration of a license term, to issue from year-to-year an annual license to the licensee under the terms and conditions of the prior license until a new license is issued, or the project is otherwise disposed of.⁴ Accordingly, the Commission granted PG&E an annual license as required by statute on April 21, 2022.⁵ On July 8, 2022, PG&E filed a plan and schedule for the surrender of the project that sets January 2025 as the filing date for the surrender application.

¹ The project was constructed in 1907. It was originally licensed by the Federal Power Commission for 50 years on April 15, 1922. From 1972 to 1983, the project operated on annual licenses until the Commission issued a new license for the project in 1983. See Pac. Gas & Elec. Co., 25 FERC ¶ 61,010, at 61,059 n.14 (1983).

² Pacific Gas & Elec. Co., 25 FERC ¶ 61,010 (1983) (Order Issuing License).

³ Pac. Gas & Elec. Co., 106 FERC ¶ 61,065, at P 2 n.1 (2004) (Order Amending License).

⁴ 16 U.S.C. 808(a)(1).

⁵ Notice of Authorization for Continued Project Operation, 87 FR 25011 (2022).

l. Description of Proceeding: Standard license Article 15 requires the licensee, in part, for the conservation and development of fish and wildlife resources to comply with such reasonable modifications of project structures and operation, as may be ordered by the Commission upon its own motion or upon the recommendation of the Secretary of the Interior or the fish and wildlife agency or agencies of any State in which the project is located. In letters filed March 17, 2022 and October 17, 2022, the National Marine Fisheries Service (NMFS) requested the Commission exercise its reserved authority to require interim protective measures, that NMFS deemed necessary on the annual license to protect listed salmonid species at the project. In a July 12, 2022 letter, PG&E declined to volunteer to file an amendment application to adopt NMFS' proposed interim measures.

In this proceeding, after notice and opportunity for hearing, the Commission may find cause to reopen the annual license terms to require changes in the project works or operations that may be necessary to protect federally listed species.

m. Location of the Proceeding: This filing may be viewed on the Commission's website at http://www.ferc.gov using the “eLibrary” link. Enter the docket number excluding the last three digits in the docket number field to access the document. You may also register online at http://www.ferc.gov/docs-filing/esubscription.asp to be notified via email of new filings and issuances related to this or other pending projects. At this time, the Commission has suspended access to the Commission's Public Reference Room, due to to the proclamation declaring a National Emergency concerning the Novel Coronavirus Disease (COVD-19), issued by the President on March 13, 2020. For assistance, call 1-866-208-3676 or email FERCOnlineSupport@ferc.gov, for TTY, call (202) 502-8659. Agencies may obtain copies of the application directly from the applicant.

n. Individuals desiring to be included on the Commission's mailing list should so indicate by writing to the Secretary of the Commission.

o. Comments, Protests, or Motions to Intervene: Anyone may submit comments, a protest, or a motion to intervene in accordance with the requirements of Rules of Practice and Procedure, 18 CFR 385.210, .211, .214, respectively. In determining the appropriate action to take, the Commission will consider all protests or other comments filed, but only those who file a motion to intervene in accordance with the Commission's Rules may become a party to the proceeding. Any comments, protests, or motions to intervene must be received on or before the specified comment date for the particular application.

p. Filing and Service of Documents: Any filing must (1) bear in all capital letters the title “COMMENTS,” “PROTEST,” or “MOTION TO INTERVENE” as applicable; (2) set forth in the heading the name of the applicant and the project number of the application to which the filing responds; (3) furnish the name, address, and telephone number of the person commenting, protesting or intervening; and (4) otherwise comply with the requirements of 18 CFR 385.2001-385.2005. All comments, motions to intervene, or protests must set forth their evidentiary basis. Any filing made by an intervenor must be accompanied by proof of service on all persons listed in the service list prepared by the Commission in this proceeding, in accordance with 18 CFR 385.2010.

Dated: November 16, 2022.
Kimberly D. Bose,
Secretary.

[FR Doc. 2022-25462 Filed 11-22-22; 8:45 am]

BILLING CODE 6717-01-P